DEPARTMENT OF TRANSPORTATION

Federal Aviation Administration

Notice of Opportunity for Public Comment on Surplus Property Release at Manchester-Boston Regional Airport in Manchester, NH

AGENCY: Federal Aviation Administration (FAA), DOT.

ACTION: Request for Public Comments.

SUMMARY: Under the provisions of Title 49, U.S.C. Section 47153(d), notice is being given that the FAA is considering a request from Manchester-Boston Regional Airport in Manchester, NH to waive the surplus property requirements for approximately 16.90 acres of airport property located at Manchester-Boston Regional Airport in Manchester, NH.

The subject parcel is currently undeveloped and has been identified for commercial development on the current Airport Layout Plan. The airport will retain the land to generate a long term lease revenue for the airport and thus, is requesting a release to change the property from aeronautical use to non-aeronautical use. It has been determined through study and master planning that the subject parcel will not be needed for aeronautical purposes is not contiguous to the airport proper. Full and permanent relief of the surplus property requirements on this parcel will allow the airport to generate long term revenue through lease of the land. All lease revenue will continue to be subject to the FAAs revenue-use policy and dedicated to the maintenance and operation of the Manchester-Boston Regional Airport.

DATES: Comments must be received on or before November 2, 2015.

ADDRESSES: You may send comments using any of the following methods:

• Federal eRulemaking Portal: Go to http://www.regulations.gov, and follow the instructions on providing comments.

• Fax: 202-493-2251

• Mail: U.S. Department of Transportation, Docket Operations, M-30, West Building Ground Floor, Room W 12-140, 1200 New Jersey Avenue SE., Washington, DC 20590

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 12 New England Executive Park, Burlington, Massachusetts, Telephone 781-238-7618.

Issued in Burlington, Massachusetts on September 23, 2015.
Mary T. Walsh,
Manager, Airports Division.

[FR Doc. 2015-25093 Filed 10-1-15; 8:45 am]

BILLING CODE P